DEPARTMENT OF EDUCATION

[CFDA No. 84.357]

Reading First—Applications for State Grants

AGENCY: Office of Elementary and Secondary Education, Department of Education.

ACTION: Notice inviting applications for new awards for fiscal year (FY) 2002.

SUMMARY: The Department of Education invites State educational agencies to apply for Reading First grants. Reading First is the largest—and yet most focused—early reading initiative this country has ever undertaken. Reading First focuses on what works, and will support scientifically based, proven methods of early reading instruction for students in kindergarten through third grade.

Purpose of Program: Reading First provides assistance to State and local educational agencies to establish scientifically based reading programs in kindergarten through third grade classrooms, to ensure that all children learn to read well by the end of third grade.

Eligible Applicants: State educational agencies from the 50 states, the District of Columbia, Puerto Rico, the Bureau of Indian Affairs, Guam, American Samoa, the U.S. Virgin Islands, and the Commonwealth of the Northern Mariana Islands.

Applications Available: April 2, 2002.

Deadline for Transmittal of Applications: May 29, 2002 in order to receive funds on July 1, 2002 (pending approval). Final deadline: July 1, 2003.

Deadline for Intergovernmental Review: September 1, 2003.

Estimated Available Funds: $872,500,000.

Estimated Number of Awards: 57.

Note: The Department is not bound by any estimates in this notice.

Project Period: Up to 72 months.

Applicable Regulations: The Education Department General Administrative Regulations (EDGAR) in 34 CFR parts 76, 77, 79, 80, 82, 85, 97, 98, and 99.

For Applications Contact: Sandi Jacobs, Reading First Program Office, U.S. Department of Education, 400 Maryland Avenue, SW., room 2W108, Washington, DC 20202-6201. Telephone: (202) 401-4877 or via Internet: http://www.ed.gov/offices/OESE/readingfirst.

FOR FURTHER INFORMATION CONTACT: Chris Doherty, Reading First Program Office, U.S. Department of Education, 400 Maryland Avenue, SW., room 2w108, Washington, DC 20202-6201. Telephone: (202) 401-4877 or via email: ReadingFirst@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

You may also view this document at the following site: http://www.ed.gov/offices/OESE/readingfirst/index.html

Note: The official version of this document is the document published in the Federal Register. Free Internet access to the official edition of the Federal Register and the Code of Federal Regulations is available on GPO Access at: http://www.access.gpo.gov/nara/index.html

Program Authority: 20 U.S.C. 1201-1208.

Dated: March 29, 2002.
Susan B. Neuman,
Assistant Secretary for Elementary and Secondary Education.

[FR Doc. 02-8036 Filed 4-1-02; 8:45 am]

BILLING CODE 4000-01-U